INTERNATIONAL TRADE COMMISSION

[Investigation No. 337-TA-994]

Certain Portable Electronic Devices and Components Thereof; Notice of Commission Determination Not To Review an Initial Determination Granting Intervenor Status to Google, Inc.

AGENCY: U.S. International Trade Commission.

ACTION: Notice.

SUMMARY: Notice is hereby given that the U.S. International Trade Commission has determined not to review an initial determination (“ID”) (Order No. 5) granting intervenor status to Google Inc.

FOR FURTHER INFORMATION CONTACT: Robert Needham, Office of the General Counsel, U.S. International Trade Commission, 500 E Street SW., Washington, DC 20436, telephone (202) 708-5468. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on May 11, 2016, based on a complaint filed by Creative Technology Ltd. of Singapore and Creative Labs, Inc. of Milpitas, California (collectively, “Creative”). 81 Fed. Reg. 29307-08. The complaint alleges violations of section 337 of the Tariff Act of 1930, as amended (19 U.S.C. 1337), in the importation, sale for importation, and sale after importation of certain portable electronic devices and components thereof that infringe certain claims of U.S. Patent No. 6,928,433. Id. at 29307. The notice of investigation named as respondents ZTE Corporation of Guangdong, China; ZTE (USA) Inc. of Richardson, Texas; Sony Corporation of Tokyo, Japan; Sony Mobile Communications, Inc. of Tokyo, Japan; Sony Mobile Communications AB of Lund, Sweden; Sony Mobile Communications (USA), Inc. of Atlanta, Georgia; Samsung Electronics Co., Ltd. of Seoul, Republic of Korea; Samsung Electronics America, Inc. of Ridgefield Park, New Jersey; LG Electronics, Inc. of Seoul, Republic of Korea; LG Electronics U.S.A., Inc. of Englewood Cliffs, New Jersey; LG Electronics Mobilecomm U.S.A. Inc. of San Diego, California; Lenovo Group Ltd. of Beijing, China; Lenovo (United States) Inc. of Morrisville, North Carolina; Motorola Mobility LLC of Chicago, Illinois; HTC Corporation of Taiwan; HTC America, Inc. of Bellevue, Washington; Blackberry Ltd. of Waterloo, Ontario, Canada; and Blackberry Corporation of Irving, Texas. Id. at 29307-08. The notice also named the Office of Unfair Import Investigations as a party. Id. at 29308.

On May 13, 2016, Google Inc. (“Google”) moved to intervene as a party in the investigation on the grounds that Creative's allegations involve the functionality of Google's Play Music application, and Google has an interest in defending its application. On May 19, 2016, the Commission Investigative Attorney filed a response supporting Google's Motion. Creative stated that it would not respond to the motion, and no other responses were filed.

On May 19, 2016, the ALJ granted the motion and issued the subject ID. He found that the motion complied with 19 CFR 210.19 and Federal Rule of Civil Procedure 24, and thus granted Google intervenor status will full participation rights as a party. No petitions for review of the subject ID were filed.

The Commission has determined not to review the subject ID.

The authority for the Commission's determination is contained in section 337 of the Tariff Act of 1930, as amended (19 U.S.C. 1337), and in Part 210 of the Commission's Rules of Practice and Procedure (19 CFR part 210).

By order of the Commission.
Issued: June 21, 2016.
William R. Bishop,
Supervisory Hearings and Information Officer.

[FR Doc. 2016-14995 Filed 6-23-16; 8:45 am]

BILLING CODE 7020-02-P